DEPARTMENT OF DEFENSE

Office of the Secretary

Meeting of the U.S. Strategic Command Strategic Advisory Group

AGENCY: Department of Defense.

ACTION: Notice of advisory committee closed meeting.

SUMMARY: Pursuant to the Federal Advisory Committee Act of 1972 (5 U.S.C. App 2, section 1), the Government in the Sunshine Act of 1976 (5 U.S.C. 552b), and 41 CFR 102-3.150, the Department of Defense announces a closed meeting of the U.S. Strategic Command Strategic Advisory Group.

DATES: The meeting will be held October 29, 2009, from 8 a.m. to 5 p.m. and October 30, 2009, from 8 a.m. to 11:30 a.m. The meeting is closed to the public.

ADDRESSES: The meeting will be held at the Dougherty Conference Center, Building 432, 906 SAC Boulevard, Offutt AFB, NE 68113.

FOR FURTHER INFORMATION CONTACT: Mr. Bruce Sudduth, Designated Federal Officer, (402) 294-4102, 901 SAC Blvd, Suite 1F7, Offutt AFB, NE 68113-6030.

For supplementary information, contact: Mr. Floyd March, Joint Staff, (703) 697-0610.

SUPPLEMENTARY INFORMATION: Purpose of the Meeting: The purpose of the meeting is to provide advice on scientific, technical, intelligence, and policy-related issues to the Commander, U.S. Strategic Command, during the development of the Nation's strategic war plans.

Agenda: Topics include: Policy Issues, Space Operations, Nuclear Weapons Stockpile Assessment, Weapons of Mass Destruction, Intelligence Operations, Cyber Operations, Global Strike, Command and Control, Science and Technology, Missile Defense.

Meeting Accessibility: Pursuant to 5 U.S.C. 552b, and 41 CFR 102-3.155, the Department of Defense has determined that the meeting shall be closed to the public. Per delegated authority by the Chairman, Joint Chiefs of Staff, General Kevin P. Chilton, Commander, U.S. Strategic Command, in consultation with his legal advisor, has determined in writing that the public interest requires that all sessions of this meeting be closed to the public because they will be concerned with matters listed in section 552b(C)(1) of title 5, U.S.C.

Written Statements: Pursuant to 41 CFR 102-3.105(j) and 102-3.140, the public of interested organizations may submit written statements to the membership of the Strategic Advisory Group at any time or in response to the stated agenda of a planned meeting. Written statements should be submitted to the Strategic Advisory Group's Designated Federal Officer; the Designated Federal Officer's contact information can be obtained from the GSA's FACA Database— https://www.fido.gov/facadatabase/public.asp.

Written statements that do not pertain to a scheduled meeting of the Strategic Advisory Group may be submitted at any time. However, if individual comments pertain to a specific topic being discussed at a planned meeting, then these statements must be submitted no later than five business days prior to the meeting in question. The Designated Federal Officer will review all submitted written statements and provide copies to all the committee members.

Dated: October 5, 2009.
Patricia L. Toppings,
OSD Federal Register Liaison Officer, Department of Defense.

[FR Doc. E9-24511 Filed 10-9-09; 8:45 am]

BILLING CODE 5001-06-P